DEPARTMENT OF TRANSPORTATION

Surface Transportation Board

[Docket No. FD 35629]

Eastern Maine Railway Company—Trackage Rights Exemption—Woodland Rail, LLC

Pursuant to a written trackage rights agreement dated April 30, 2012, Woodland Rail, LLC (Woodland Rail) has agreed to grant limited, nonexclusive trackage rights to Eastern Maine Railway Company (EMR) over a rail line known as the Calais Industrial Track (the Line). The Line is approximately 11.83 track miles in length, with approximately 6.75 track miles located in Maine and approximately 5.08 track miles located in New Brunswick, Canada. As EMR acknowledges in its notice, the jurisdiction of the Board only extends to the portions of the Line within the United States. The end points of the Line are at engineering station 64+17 in Baileyville and engineering station 6978+84 in Calais, in Washington County, Me. The transaction includes a spur track between Woodland Junction, Me., which is engineering station 363+45, and engineering station 393+37 and another spur track at St. Croix Junction, Me., which is engineering station 6817+12.¹

¹ In a related transaction, Woodland Rail has filed a verified notice of exemption under 49 CFR 1150.31 to acquire and operate the Line from Maine Central Railroad Co. See Woodland Rail, LLC—Acquis. & Operation Exemption—Line of Me. Cent. R.R., FD 35628 (STB served June 6, 2012).

The transaction is scheduled to be consummated on June 21, 2012, the effective date of the exemption (30 days after the exemption was filed).

The purpose of the transaction is to permit EMR to directly serve a pulp mill owned by Woodland Pulp, LLC in Baileyville. EMR will be able to serve the mill with both inbound and outbound traffic, and EMR will also have all rights needed to interchange or provide run-through service with New Brunswick Southern Railway. Other than direct service to the mill, EMR's rights on the Line will be overhead only, and EMR will be prohibited from serving any other locations or shippers on the Line.

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Petitions for stay must be filed by June 14, 2012 (at least 7 days before the exemption becomes effective).

An original and 10 copies of all pleadings, referring to Docket No. FD 35629, must be filed with the Surface Transportation Board, 395 E Street SW., Washington, DC 20423-0001. In addition, a copy of each pleading must be served on David E. Benz; Thompson Hine LLP; Suite 700; 1919 M Street NW., Washington, DC 20036.

Board decisions and notices are available on our Web site at www.stb.dot.gov.

Decided: June 1, 2012.
By the Board, Rachel D. Campbell, Director, Office of Proceedings.
Raina S. White,
Clearance Clerk.

[FR Doc. 2012-13699 Filed 6-5-12; 8:45 am]

BILLING CODE 4915-01-P